FEDERAL COMMUNICATIONS COMMISSION

47 CFR Part 73

[MB Docket No. 21-483; RM-11913; DA 22-584; FR ID 89847]

Radio Broadcasting Services; Hamilton, Texas

AGENCY: Federal Communications Commission.

ACTION: Final rule.

SUMMARY: This document amends the FM Table of Allotments, of the Federal Communications Commission's (Commission or FCC) rules, by adding Channel 263A at Hamilton, Texas. Channel 263A would provide a second local service at Hamilton, Texas. A staff engineering analysis reveals that Channel 263A can be allotted to Hamilton in conformity with the FCC's rules at reference coordinates 31-39-48.1 NL and 98-21-29.4 WL. To accommodate the Hamilton allotment, we modify the FM station KNUZ license to specify operation on Channel 291A in lieu of Channel 224A at San Saba, Texas, and the FM station KRNR license to specify Channel 224A in lieu of 263A at Goldthwaite, Texas.

DATES: Effective July 11, 2022.

FOR FURTHER INFORMATION CONTACT: Rolanda F. Smith, Media Bureau, (202) 418-2700.

SUPPLEMENTARY INFORMATION: This is a synopsis of the Commission's Report and Order, MB Docket No. 21-483; RM-11913; DA 22-584 adopted on May 25, 2022 and released on May 26, 2022. The full text of this Commission decision is available online at https://apps.fcc.gov/ecfs/. This document does not contain information collection requirements subject to the Paperwork Reduction Act of 1995, Public Law 104-13. The Commission will send a copy of the Report and Order in a report to be sent to Congress and the Government Accountability Office pursuant to the Congressional Review Act, see U.S.C. 801(a)(1)(A).

List of Subjects in 47 CFR Part 73

Radio, Radio broadcasting.

Federal Communications Commission.
Nazifa Sawez,
Assistant Chief, Audio Division, Media Bureau.

Final Rules

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. In § 73.202(b), amend the Table of FM Allotments under Texas by adding in alphabetical order an entry for “Hamilton” to read as follows:

§ 73.202 Table of Allotments.

* * * * *

(b) * * *

Table 1 to Paragraph (b)
[U.S. States]
| Channel No.
Texas
* * * * *
Hamilton | 263A
* * * * *

[FR Doc. 2022-12360 Filed 6-7-22; 8:45 am]

BILLING CODE 6712-01-P